DEPARTMENT OF THE INTERIOR

Bureau of Land Management

[LLAZ910000.L12100000.XP0000 19X 6100.241A]

Arizona Resource Advisory Council Meeting

AGENCY: Bureau of Land Management, Interior.

ACTION: Notice of public meeting.

SUMMARY: In accordance with the Federal Land Policy and Management Act of 1976 and the Federal Advisory Committee Act of 1972; the U.S. Department of the Interior, Bureau of Land Management (BLM) will hold a virtual public meeting of the Arizona Resource Advisory Council (RAC).

DATES: The RAC will hold a two-day virtual public meeting on November 30 and December 1, 2020. The November 30 meeting will begin at 8:30 a.m. and adjourn at approximately 2 p.m. The December 1 meeting will begin at 8:30 a.m. and adjourn at approximately 3 p.m. Each day will begin at 8:00 a.m. to allow for check-in and technical assistance with the virtual platform.

ADDRESSES: The meeting will be held virtually. The meeting link(s) will be made available at least one week before the meeting dates on the RAC's website, https://www.blm.gov/get-involved/resource-advisory-council/near-you/arizona. Written comments may be submitted in advance to Dolores Garcia, Public Affairs Specialist, BLM Arizona State Office, One North Central Avenue, Suite 800, Phoenix, Arizona 85004-4427; or by email to dagarcia@blm.gov. All comments received will be provided to the Arizona RAC.

FOR FURTHER INFORMATION CONTACT: Dolores Garcia, Public Affairs Specialist, by mail at the BLM Arizona State Office, One North Central Avenue, Suite 800, Phoenix, Arizona, 85004-4427; by telephone at 602-417-9241; or by email at dagarcia@blm.gov. Persons who use a telecommunications device for the deaf (TDD) may call the Federal Relay Service (FRS) at 1-800-877-8339 to contact Ms. Garcia during normal business hours. The FRS is available 24 hours a day, 7 days a week, to leave a message or question. You will receive a reply during normal business hours.

Individuals who need special assistance, such as sign language interpretation or other reasonable accommodations, should contact Dolores Garcia no later than 2 weeks before the start of the meeting.

SUPPLEMENTARY INFORMATION: The 15-member RAC advises the Secretary of the Interior, through the BLM, on a variety of planning and management issues associated with public land management in Arizona.

Agenda items will include orientation for newly appointed members; updates on BLM project work in compliance with Department of the Interior priorities and Secretary's Orders; resource management updates, including the latest initiatives; District updates; and public comment periods. The final agenda will be posted on the BLM Arizona RAC website (see ADDRESSES.)

The public may address the RAC on BLM-related topics during the public comment portion of the virtual meeting on November 30 and December 1, or by submitting a written statement to the contact listed in the ADDRESSES section prior to the meetings. Depending on the number of persons wishing to speak, and the time available, the time for individual comments may be limited.

Before including your address, phone number, email address, or other personal identifying information in your comment, you should be aware that your entire comment—including your personal identifying information—may be made publicly available at any time. While you can ask us in your comment to withhold your personal identifying information from public review, we cannot guarantee that we will be able to do so.

Authority: 43 CFR 1784.4-2.

Raymond Suazo,
Arizona State Director.

[FR Doc. 2020-24233 Filed 10-30-20; 8:45 am]

BILLING CODE 4310-12-P